DEPARTMENT OF THE INTERIOR

Bureau of Indian Affairs

[167A2100DD/AAKC001030/A0A501010.999900]

Notice of Intent To Prepare an Environmental Impact Statement for the Fort Mojave Solar Project on the Fort Mojave Indian Reservation, Mohave County, Arizona, and Clark County, Nevada

AGENCY: Bureau of Indian Affairs, Interior.

ACTION: Notice.

SUMMARY: The Bureau of Indian Affairs (BIA), as lead agency in cooperation with the Fort Mojave Indian Tribe (Tribe), the Bureau of Land Management (BLM), and other agencies, intends to prepare an Environmental Impact Statement (EIS) that will evaluate a photovoltaic (PV) solar energy generation project on the Fort Mojave Indian Reservation in Mohave County, Arizona. Associated transmission lines and substations located on Tribal trust lands, Federal lands administered and managed by BLM and Bureau of Reclamation (BOR), State-administered lands, and county and private lands in Clark County, Nevada, will also be evaluated.

This notice announces the beginning of the scoping process to solicit public comment and identify potential issues related to the EIS. It also announces that two public scoping meetings will be held to identify potential issues, alternatives, and mitigation to be considered in the EIS.

DATES: In order to be fully considered, written comments on the scope of the EIS or implementation of the proposal must arrive by May 11, 2016. The dates and locations of the public scoping meetings will be published in local papers (Mohave Valley Daily News, Needles Desert Star, and Laughlin Nevada Times) 15 days before the scoping meetings and will also be available on the EIS Web site at FortMojaveSolarProjectEIS.com.

ADDRESSES: You may mail, email, or hand carry written comments to Mr. Chip Lewis, Regional Environmental Compliance Officer, BIA Western Regional Office, 2600 North Central Avenue, 4th Floor Mailroom, Phoenix, Arizona 85004; telephone: (602) 379-6782; email: chip.lewis@bia.gov.

SUPPLEMENTARY INFORMATION: The proposed Federal action, taken under 25 U.S.C. 415, is BIA's approval of a solar energy ground lease and associated agreements entered into by the Tribe with Tribal Solar, LLC (Tribal Solar), a wholly-owned subsidiary of First Solar. If approved, these documents would allow the construction and operation of an up-to 332 megawatt (MW) alternating current solar PV electricity generation facility located entirely on the Fort Mojave Indian Reservation and specifically on lands held in trust by the United States for the Tribe. The proposed generation-tie transmission lines and substations required for interconnection would be located on Tribal trust lands, Federal lands administered and managed by BLM and BOR, State-administered lands, and county and private lands in Clark County, Nevada. The BIA and BLM would additionally approve right-of-ways (ROWs) authorizing the construction and operation of the transmission line and other supporting facilities, as needed. Together, the proposed solar energy facility, transmission lines, and other associated facilities will make up the proposed solar project (Project).

The proposed solar energy facility would be located on approximately 2,800 acres of Tribal trust lands leased from the Tribe out of a total of approximately 3,600 acres available under an option for lease. These lands are currently used for agriculture. The solar energy facility would include PV panels, power inverters and transformers, a 34.5 kV collection system either overhead or underground, a substation, an operations and maintenance building with parking, meteorology towers, security fencing and lighting, and other on-site facilities as required.

The Project would interconnect into the existing Mohave 500 kV Switchyard located near the town of Laughlin, Nevada. As proposed, an approximately 18-mile 230 kilovolt (kV) single or multiple circuit line would be built to a new 230/500 kV substation, which would be located next to/near the Mohave 500 kV Switchyard. Here, the voltage would be stepped up to 500 kV and then a short single or multiple circuit 500 kV line would be built from the 230/500 kV substation to connect to the Mohave 500 kV Switchyard.

The solar facility would be located on Tribal lands in Township 18 North, Range 22 West, Sections 3, 4, 9, and 10 and Township 19 North, Range 22 West, Sections 15, 16, 21, 22, 27, 28, 29, 33, and 34 in Arizona. Access to the solar facility site would be provided by existing roads crossing through and next to the proposed solar facility site. Construction of the Project is expected to take approximately 18 to 32 months. Tribal Solar is expected to operate the energy facility for up to 35 years subsequent to the Project's Commercial Operations Date. No water would be used to generate electricity during operations. Water would be needed during construction for dust control and other construction activities and a minimal amount would be needed during operations. The water supply required for portions of the Project on the Reservation would be obtained from the Tribe.

The purposes of the proposed actions and the Project are, among other things, to: use the Tribe's solar energy resources; provide a long-term, diverse, and viable economic revenue base, job opportunities and other benefits for the Tribe; generate clean, renewable electricity to help Southwestern states to meet their State renewable energy needs and reduce demand for generation facilities that might result in cross-border air pollution; and allow the Tribe, in partnership with Tribal Solar, to optimize the use of the lease site while maximizing the potential economic benefit to the Tribe.

BIA will prepare the EIS in cooperation with the Tribe, BLM, and possibly BOR, Army Corps of Engineers, Environmental Protection Agency (EPA), State of Nevada, and Clark County, Nevada. In addition, the U.S. Fish and Wildlife Service (USFWS) will provide input on the analysis and may also serve as a cooperating agency. The resulting EIS will aim to: (1) Provide agency decision makers, the Tribe, and the general public with a comprehensive understanding of the impacts of the proposed Project and alternatives on and off the Reservation; (2) describe the cumulative impacts of development on the Reservation; and (3) identify and propose mitigation measures that would minimize or prevent significant adverse impacts. Consistent with these objectives, the EIS will analyze the proposed Project and appurtenant features, viable alternatives, and the No Action alternative.

The EIS will provide a framework for BIA and BLM to make determinations and to decide whether to take the aforementioned Federal actions. In addition, BIA and BLM will use and coordinate the NEPA commenting process to satisfy its obligations under Section 106 of the National Historic Preservation Act (NHPA) (54 U.S.C. 306108), as provided for in 36 CFR 800.2(d)(3). Native American Tribal consultations will be conducted in accordance with Departmental policy, and Tribal concerns, including potential impacts on Indian trust assets, will be given due consideration. Other Federal agencies may rely on the EIS to make decisions under their authority and the Tribe may also use the EIS to support any of their decisions. USFWS will review the EIS for consistency with the Endangered Species Act, as amended, and other implementing acts, and may rely on the EIS to support its decisions and opinions regarding the Project.

Issues to be covered during the scoping process may include, but would not be limited to, Project impacts on: Air quality, geology and soils, surface and groundwater resources, biological resources, threatened and endangered species, cultural resources, socioeconomic conditions, land use, aesthetics, environmental justice, climate change, greenhouse gas (GHG) emissions, and Indian trust resources. In addition to those already identified above, additional Federal, State, and local agencies, along with other stakeholders that may be interested in or affected by the BIA's decision on the proposed Project, are invited to participate in the scoping process.

Submission of Public Comments

Please include your name, return address, and the caption “EIS, Fort Mojave Solar Project,” on the first page of any written comments. You may also submit comments at the public scoping meetings or via the EIS Web site at FortMojaveSolarProjectEIS.com.

The public scoping meetings will be held to further describe the Project and identify potential issues and alternatives to be considered in the EIS. One public scoping meeting will be held on the Reservation and another public scoping meeting will be held in Laughlin, Nevada. The dates of the public scoping meetings will be included in notices to be posted in local papers (Mohave Valley Daily News, Needles Desert Star, and Laughlin Nevada Times) 15 days before the meetings and will also be available on the EIS Web site (FortMojaveSolarProjectEIS.com).

Public Comment Availability

Comments, including names and addresses of respondents, will be available for public review at the mailing address shown in the ADDRESSES section during regular business hours, 8 a.m. to 4:30 p.m., Monday through Friday, except holidays. Before including your address, phone number, email address, or other personal identifying information in your comment, you should be aware that your entire comment—including your personal identifying information—may be made publicly available at any time.

Authority

This notice is published in accordance with 40 CFR 1501.7 of the Council of Environmental Quality regulations and 43 CFR 46.235 of the Department of the Interior Regulations implementing the procedural requirements of the NEPA (42 U.S.C. 4321 et seq.), and in accordance with the exercise of authority delegated to the Assistant Secretary—Indian Affairs by part 209 of the Department Manual.

Dated: March 31, 2016.
Lawrence S. Roberts,
Acting Assistant Secretary—Indian Affairs.

[FR Doc. 2016-08264 Filed 4-8-16; 8:45 am]

BILLING CODE 4337-15-P